FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012064-003.

Title: Hapag-Lloyd/NYK Mexico-Dominican Republic Slot Exchange Agreement.

Parties: Hapag-Lloyd AG and Nippon Yusen Kaisha.

Filing Party: Joshua P. Stein, Esq.; Cozen O'Connor; 1627 I Street NW.; Suite 1100; Washington, DC 20006.

Synopsis: The amendment would increase the amount of space to be exchanged under the agreement.

Agreement No.: 012240.

Title: Seaboard/BBC Space Charter Agreement.

Parties: Seaboard Marine Ltd.; and BBC Chartering Carriers GmbH & Co. KG and BBC Chartering & Logistic GmbH & Co. KG.

Filing Party: Joshua P. Stein, Esq.; Sher & Blackwell LLP; 1850 M Street NW.; Suite 900; Washington, DC 20036.

Synopsis: The Agreement authorizes the parties to charter space to each other in the trade between the U.S. Gulf Coast and the West Coast of South America.

Dated: December 27, 2013.
By Order of the Federal Maritime Commission.
Karen V. Gregory,
Secretary.

[FR Doc. 2013-31405 Filed 12-31-13; 8:45 am]

BILLING CODE 6730-01-P